COMMODITY FUTURES TRADING COMMISSION

Sunshine Act Meeting

AGENCY: Commodity Futures Trading Commission.

ACTION: Sunshine Act meetings.

Time and Date: 10:30 a.m., Wednesday, December 10, 2003.

Place: 1155 21st St., NW., Washington, DC, Room 1012.

Status: Closed.

Matters to be Considered: Rule Enforcement Review.

FOR FURTHER INFORMATION CONTACT: Jean A. Webb, (202) 418-5100.

Jean A. Webb,
Secretary of the Commission.

[FR Doc. 03-29618 Filed 11-21-03; 3:40 pm]

BILLING CODE 6351-01-M